COMMITTEE FOR PURCHASE FROM PEOPLE WHO ARE BLIND OR SEVERELY DISABLED

Procurement List; Additions

AGENCY: Committee for Purchase From People Who are Blind or Severely Disabled.

ACTION: Additions to Procurement List.

SUMMARY: This action adds to the Procurement List products and services to be furnished by nonprofit agencies employing persons who are blind or have other severe disabilities.

DATES: Effective Date: July 31, 2005.

ADDRESSES: Committee for Purchase From People Who Are Blind or Severely Disabled, Jefferson Plaza 2, Suite 10800, 1421 Jefferson Davis Highway, Arlington, Virginia, 22202-3259.

For Further Information or to Submit Comments Contact: Sheryl D. Kennerly, Telephone: (703) 603-7740, Fax: (703) 603-0655, or email SKennerly@jwod.gov.

SUPPLEMENTARY INFORMATION: On April 15, April 29, May 6, and May 13, 2005, the Committee for Purchase From People Who are Blind or Severely Disabled published notice (70 FR 19924, 22298, 23979, and 25536) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Bag, Sand Polypropylene. (50% of the total polypropylene sand bag only requirement for Defense Supply Center Philadelphia. Does not include the combination of polypropylene and acrylic).

NSN: 8105-00-142-9345—26″ × 14″

NSN: 8105-01-336-6163—26 × 14

NPA: Southeast Vocational Alliance, Inc., Houston, Texas

Contracting Activity: Defense Supply Center Philadelphia, Philadelphia, Pennsylvania

Targets

NSN: 6920-00-600-6874—Paper Matte Target

NSN: 6920-00-951-3956—Standing Man Holding Pistol

NSN: 6920-00-795-1806—Kneeling Position

NPA: North Central Sight Services, Inc., Williamsport, Pennsylvania

Contracting Activity: Defense Supply Center Philadelphia, Philadelphia, Pennsylvania

Services

Service Type/Location: Administrative Services, Anniston Army Depot, 7 Frankford Avenue, Bldg 221, Anniston, Alabama Facility, Anniston, Alabama

Contracting Activity: Directorate of Contracting—Anniston Army Depot, Anniston, Alabama

Service Type/Location: Custodial Services, VA Primary Care Center, 5682 Bee Ridge Road, Sarasota, Florida

NPA: Abilities, Inc. of Florida, Clearwater, Florida

Contracting Activity: VISN 8, Sunshine Network, Bay Pines, Florida

Service Type/Location: Grounds Maintenance, Basewide, Schriever AFB, Colorado

NPA: Professional Contract Services, Inc., Austin, Texas

Contracting Activity: USAF, 50 CONS/LGC, Schriever AFB, Colorado

Service Type/Location: Grounds Maintenance, Jim Creek Radio Station, Jim Creek, Washington, Smokey Point Support Complex, Smokey Point, Washington

NPA: Northwest Center for the Retarded, Seattle, Washington

Contracting Activity: Naval Facilities Engineering Command, Poulsbo, Washington

Service Type/Location: Laundry Service, Basewide, Bolling AFB, DC

NPA: Rappahannock Goodwill Industries, Inc., Fredericksburg, Virginia

Contracting Activity: HQ Bolling—11th CONS/LGCO, Bolling AFB, DC

This action does not affect current contracts awarded prior to the effective date of this addition or options that may be exercised under those contracts.

Sheryl D. Kennerly,
Director, Information Management.

[FR Doc. E5-3467 Filed 6-30-05; 8:45 am]

BILLING CODE 6353-01-P